Title 3—

The President

Executive Order 13946 of August 24, 2020

Targeting Opportunity Zones and Other Distressed Communities for Federal Site Locations

By the authority vested in me as President by the Constitution and the laws of the United States of America, and to promote economy and efficiency in the planning, acquisition, utilization, and management of Federal space facilities, it is hereby ordered as follows:

Section 1. Amendments to Executive Order 12072. Executive Order 12072 of August 16, 1978 (Federal Space Management), is amended as follows:

(a) The heading of section 1-1 is amended to read as follows: “Space Acquisition and Management.”;

(b) Section 1-103 is amended to read as follows: “In the process for meeting Federal space needs, except where such selection is otherwise prohibited, and where cost and security considerations take precedence, preference is to be given to qualified opportunity zones (as defined in 26 U.S.C. 1400Z-1), other distressed areas, and centralized community business areas (including other specific areas which may be recommended by local officials).”;

(c) Section 1-201 is amended to read as follows: “The Administrator of General Services shall develop programs to implement the policies of this Order through the efficient acquisition, utilization, and disposal of Federally owned and leased space. In particular, the Administrator shall:”;

(d) Section 1-201(a) is amended to read as follows: “(a) Select, acquire, manage, and dispose of Federal space in a manner that will foster the policies and programs of the Federal Government and improve the management and administration of government activities.”;

(e) Sections 1-201(e) and 1-202 are each amended by replacing the word “his” where such word appears with “the Administrator's”; and

(f) Section 1-201(f) is deleted.

Sec. 2. Amendments to Executive Order 13006. Executive Order 13006 of May 21, 1996 (Locating Federal Facilities on Historic Properties in our Nation's Central Cities), is amended as follows:

(a) Section 1 is amended by deleting “the Administration's” where it appears in the first sentence. Section 1 is further amended by deleting “our central cities, which have historically served as the centers for growth and commerce in our metropolitan areas” where such language appears in the first sentence and by replacing the deleted language with “distressed communities”. Further, the second sentence of section 1 is amended to read as follows: “This order reaffirms the commitment set forth in Executive Order No. 12072, as amended, to strengthen our Nation's distressed communities by encouraging the location of Federal facilities in qualified opportunity zones (as defined in 26 U.S.C. 1400Z-1), other distressed areas, and centralized business districts.” Section 1 is further amended by deleting “The Administration” where such language appears in the third sentence and replacing the deleted language with “This order”; and

(b) Section 2 is amended in the first sentence by inserting “, as amended,” after the words “Executive Order No. 12072,” and by deleting the word “first” where such word appears. Section 2 is further amended by combining and amending the second and third sentences to read as follows: “If no such property is suitable, then such consideration shall include other developed or undeveloped sites within historic districts or historic properties outside of historic districts.”; and

(c) Section 4 is amended by deleting “States, local governments, Indian tribes” where such language appears in the first sentence and replacing the deleted language with “State, local, and tribal governments,”.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 24, 2020.

[FR Doc. 2020-19032

Filed 8-26-20; 8:45 am]

Billing code 3295-F0-P